DEPARTMENT OF EDUCATION

Office of Special Education and Rehabilitative Services; Special Education—State Personnel Development Grants Program

ACTION: Notice inviting applications for new awards for FY 2004 (to be awarded in FY 2005); Correction.

SUMMARY: On March 3, 2005, we published in the Federal Register (70 FR 10380) a notice inviting applications for new awards under the Office of Special Education and Rehabilitative Services; Special Education—State Personnel Development Grants Program authorized under the Individuals with Disabilities Education Act (IDEA).

On pages 10380 and 10384, second column, the Deadline for Transmittal of Applications is corrected to read “May 17, 2005” and the Deadline for Intergovernmental Review is corrected to read “July 18, 2005.”

FOR FURTHER INFORMATION CONTACT: Larry Wexler, U.S. Department of Education, 400 Maryland Avenue, SW., room 4019, Potomac Center Plaza, Washington, DC 20202-2550. Telephone: (202) 245-7571.

If you use a telecommunications device for the deaf (TTD), you may call the Federal Relay Service (FRS) at 1-800-877-8339.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 21, 2005.
John H. Hager,
Assistant Secretary for Special Education and Rehabilitative Services.

[FR Doc. 05-5857 Filed 3-23-05; 8:45 am]

BILLING CODE 4000-01-P